DEPARTMENT OF COMMERCE

National Oceanic and Atmospheric Administration (NOAA)

[Docket No. 0908101223-91223-01; I.D. GF001]

Applications for the FY 2010 Ocean Exploration (OE) Program

AGENCY: Office of Ocean Exploration and Research (OER), Oceanic and Atmospheric Research (OAR), National Oceanic and Atmospheric Administration (NOAA), Commerce.

ACTION: Notice of funding availability.

SUMMARY: OER is seeking pre-proposals and full proposals to support its mission, consistent with NOAA's Strategic Plan to search, investigate, and document poorly-known and unknown areas of the ocean and Great Lakes through interdisciplinary exploration, and to advance and disseminate knowledge of the ocean environment and its physical, chemical, and biological resources.

Competitive OE proposals will be bold, innovative and interdisciplinary in their approach. OER anticipates a total of approximately $3,000,000 including costs for ship and submersible assets will be available through this announcement. Only exploratory proposals will be funded; any other types of projects will not be reviewed. The office priorities for this opportunity support NOAA's mission support goal of: Ecosystems—Protect, Restore, and Manage Use of Coastal and Ocean Resources through Ecosystem-Based Management.

DATES: Completed pre-proposals are required for all categories and must be received by 5 p.m. (EDT) on October 8, 2009. Full proposal submissions must be received by 5 p.m. (EDT) on December 7, 2009. A complete pre-proposal is a prerequisite for submission of a full proposal. Applications received after the above deadlines will not be considered.

ADDRESSES: Pre-proposal submissions from Federal and non-Federal applicants can be either by e-mail (preferred, send to OAR.OE.FAQ@noaa.gov) or by hard-copy. If by e-mail, please put your last name in the subject heading along with the words OE Pre-proposal, e.g., Smith OE Pre-proposal. Adobe PDF format is preferred. No facsimile pre-proposals will be accepted. Non-Federal applicants are strongly encouraged to submit full proposals through Grants.gov. Non-Federal applicants without Internet access may submit hard-copies to: ATTN: Dr. Nicolas Alvarado, NOAA Office of Ocean Exploration and Research, SSMC III, 10th Floor, 1315 East West Highway, Silver Spring, Maryland 20910. No e-mail or facsimile full proposal submissions will be accepted from non-Federal applicants. Federal applicants may submit full proposals either by e-mail (preferred, send to OAR.OE.FAQ@noaa.gov) or by hard-copy. No facsimile full proposal submissions will be accepted from Federal applicants.

FOR FURTHER INFORMATION CONTACT: For further information contact the NOAA Office of Ocean Exploration and Research at (301)734-1015 or submit inquiries via e-mail to the Frequently Asked Questions address: OAR.OE.FAQ@noaa.gov. E-mail inquiries should include the Principal Investigator's name in the subject heading. Inquiries can be mailed to: ATTN: Dr. Nicolas Alvarado NOAA Office of Ocean Exploration and Research, 1315 East-West Highway SSMC3, 10th Floor, R/OER, Silver Spring, Maryland 20910.

SUPPLEMENTARY INFORMATION: Ocean exploration was defined by the 2000 President's Panel on Ocean Exploration, as “discovery through disciplined diverse observations and the recording of the finding.” NOAA's Office of Ocean Exploration and Research seeks to catalyze ocean discovery and understanding at our ocean and Great Lakes frontiers through bold and innovative explorations. These explorations should revolutionize our knowledge baselines by exploring, characterizing and mapping, at new and/or higher scales, the oceans living and nonliving resources and its physical, chemical and biological characteristics. Data and observations resulting from OE expeditions will result in new discoveries, new insight, new knowledge and new frontiers and will likely lead to the revision of existing paradigms or the formulation of new paradigms in the oceans poorly known and unknown regions. The purpose of this announcement is to invite the submission of pre-proposals and full proposals that address ocean exploration and advanced technology development.

Through discovery and the systematic exploration of unknown ocean areas and phenomena, OER serves to ensure NOAA can meet its goal to, “Protect, Restore, and Manage the Use of Coastal and Ocean Resources Through an Ecosystem Approach to Management” (New Priorities for the 21st Century, NOAA's Strategic Vision). The results of OER activities are cornerstones upon which ecosystems will be discovered, defined and understood thus enabling them to be protected, restored, and managed. The interdisciplinary and multidisciplinary nature of OER activities also serves NOAA's current strategic plan (New Priorities for the 21st Century—NOAA's Strategic Plan) goal to “Understand Climate Variability and Change to Enhance Society's Ability to Plan and Respond.” The discovery and characterization of new ocean phenomena and dynamic processes provide essential information for understanding ocean—atmosphere connections and their influence on climate. The discovery of new habitats and species also provides essential information for understanding the effects of a changing climate on the marine resources upon which we depend.

The need for interdisciplinary ocean exploration is echoed as a priority in NOAA's 20-year research vision, Understanding Global Ecosystems to Support Informed Decision-Making, because they provide a foundation for understanding complex relationships between ocean and terrestrial ecosystems. This need is also elaborated in NOAA's current 5-year research plan, Research in NOAA: Toward Understanding and Predicting Earth's Environment, and both the vision and the plan acknowledge the need for new ocean technologies, including new sensors and platforms as well as enhanced information and telecommunications technologies. OERS core activities also directly address the Ocean Research Priorities Plan and Implementation Strategy challenge of “Expanding the Scientific Frontier: The Need for Fundamental Science,” which states, “It is essential that the nation cultivate and investigate new ideas about the ocean and new approaches for exploring the marine environment that may challenge existing interpretations. In doing so, society should recognize and even encourage risk-taking in supporting the most exciting and promising ideas for making progress in understanding the ocean.”

Charting The Course For Ocean Science, NSTC Joint Subcommittee On Ocean Science And Technology, Jan. 26, 2007, p. 6.

OER provides a foundation for all six themes in the Ocean Research Priorities Plan through its exploration and discovery mission. Further, as envisioned in the Report of the President's Panel on Ocean Exploration, Discovering the Earth's Final Frontier: A U.S. Strategy for Ocean Exploration, OER also engages in partnerships with other agencies and programs, e.g., the National Science Foundation, the Department of Interior Minerals Management Service, the Office of Naval Research, the Census of Marine Life, and the National Oceanographic Partnership Program, to leverage its pursuit and achievement of NOAA goals. In furtherance of the program objectives stated above, OER encourages proposals that explore the unknown or poorly known, test new ideas, utilize new approaches, and develop new technologies in ocean exploration. Because interdisciplinary expeditions are a keystone of NOAA's Office of Ocean Exploration and Research, scientists are strongly encouraged to collaborate by submitting a single proposal for a multi-disciplinary expedition.

Collaborations that include international representation are also encouraged. Only exploratory proposals will be funded; any other types of projects will not be reviewed.

Electronic Access:

The full text of the full Federal Funding Opportunity announcement (FFO) for this program can be accessed via the Grants.gov Web site at http://www.grants.gov. The announcement will also be available by contacting the program officials identified under FOR FURTHER INFORMATION CONTACT. Applicants must comply with all requirements contained in the full Federal Funding Opportunity announcement.

Statutory Authority: 33 U.S.C. 3403(a)(4).

CFDA: 11.460, Special Oceanic and Atmospheric Projects.

Funding Availability: In anticipation of the FY 2010 President's Budget, OER anticipates a total of approximately $3,000,000 will be available through this announcement. Depending on the quality and quantity of proposals received, OER anticipates supporting approximately 6 awards through this solicitation, resulting in an average award level of approximately $500,000. At the discretion of the program, FY 2011 funds may be used to sponsor proposals submitted as part of this competition. The amount of funding available through this announcement is subject to the final FY 2010 appropriation for the Office of Ocean Exploration and Research. Publication of this announcement does not obligate NOAA to fund any specific project or to obligate all or any part of available funds. There is no guarantee that sufficient funds will be available to initiate or continue research activities where funding has been recommended by OER. The exact amount of funds that OER may recommend be granted will be determined in pre-award negotiations between the applicant and NOAA representatives. Future opportunities for submitting proposals may be available and will depend on OER funding levels.

Eligibility: Eligible applicants are institutions of higher education; other nonprofits; commercial organizations; foreign governments; organizations under the jurisdiction of foreign governments; international organizations; State, local and Indian tribal governments; and Federal agencies.

Please Note: Before non-NOAA Federal applicants may be funded, they must demonstrate that they have legal authority to receive funds from another Federal agency in excess of their appropriation. Because this announcement is not proposing to procure goods or services from applicants, the Economy Act (31 U.S.C. 1535) is not an appropriate legal basis.

Cost Sharing Requirements: Cost-sharing is not required.

Application Package Forms: Pre-proposals: Applicants must submit a two-page pre-proposal narrative (See section IV.B.1. of the FFO), in addition to a cover sheet that may be obtained through the OER Office Web site at: http://explore.noaa.gov/cover-sheet. For applicants without Internet access, hard copies of the cover sheet can be obtained via mail at NOAA Office of Ocean Exploration and Research, 1315 East West Highway, SSMC 3, 10th Floor, Silver Spring, Maryland 20910, or requested by phone at (301) 734-1015.

Full Proposals: Application forms for full proposals are available through Grants.gov. In addition to the application forms, applicants must submit a proposal cover sheet, which is found at OER Web site http://explore.noaa.gov/cover-sheet.

For applicants without Internet access, hard copies of the cover sheet and the application package can be obtained via mail at NOAA Office of Ocean Exploration and Research, 1315 East West Highway, SSMC 3, 10th Floor, Silver Spring, Maryland 20910, or requested by phone at (301) 734-1015 as well. Supplemental information regarding the standard NOAA grants documentation can be obtained at: http://www.ofa.noaa.gov/%7Egrants/appkit.html. All applicants are encouraged to visit the Ocean Explorer Web site (http://www.oceanexplorer.noaa.gov) to familiarize themselves with past and present OER-funded activities. Background information on how to apply for the program is found on the OER Office Web site at http://www.explore.noaa.gov.

Evaluation Criteria and Selection Procedures: The general evaluation criteria and selection factors that apply to full applications to this funding opportunity are summarized below. Further information about the evaluation criteria and selection factors can be found in the full funding opportunity announcement.

Evaluation Criteria for Projects: Pre-Proposal Evaluation Criteria: The OER Director, in consultation with the office staff, will make the decision to encourage or discourage full proposal submissions based on one or more of the following factors, which are amplified in the section on review of full proposals: (1) Importance, Relevance and Applicability of Proposal to the OER Goals and thematic priorities (see section I.A. Office and Notice Objectives and section I.B. Office Priorities and Guidance of the FFO); (2) Scientific and Technical Merit; (3) Overall qualifications of applicants; (4) Project Costs; (5) Logistical feasibility (e.g., ship or equipment availability); and (6) Consistency with the priorities of this announcement.

Full Proposal Evaluation Criteria: Full proposals will be evaluated and rated individually by three or more independent peer reviewers and/or a peer-review panel. The following criteria will be used to review proposals using the corresponding weight value:

1. Importance/Relevance and Applicability of Proposal to OER goals (40%): This criterion ascertains whether there is intrinsic value in the proposed work and relevance to appropriate NOAA, international, Federal, regional, State, or local activities. For the OER review process this includes the degree to which the proposal addresses and supports OER's mission, objectives, themes and priorities (see section I.A. Office and Notice Objectives and section I.B. Office Priorities and Guidance of the FFO). A central aspect of this criteria is whether the proposed effort is exploratory in nature (expanding the breadth of knowledge) as opposed to a research focus (expanding the depth of knowledge on any particular topic).

2. Scientific and Technical Merit (40%): This criterion ascertains whether the approach is technically sound and/or innovative, if the methods are appropriate, and whether there are clear project goals and objectives. For the OER review process, in addition to the scientific, and/or technical merit of the effort, review criteria include whether: (a) The effort is interdisciplinary with suitable plans and methods, (b) the anticipated results (as appropriate, scientific, technical, historical, cultural, societal or economic) will have high downstream impact, e.g., leading to the revision of existing paradigms, the formulation of new paradigms or new frontiers of knowledge or activity and (c) plans for preservation, documentation, and sharing of data, multimedia, specimen collections are adequately and clearly outlined.

3. Overall qualifications of applicants (10%): This ascertains whether the applicant(s) possesses the necessary education, experience, training, facilities and administrative resources to accomplish the project. For the OER review process this includes (a) The qualifications of the applicant(s), (b) the strength, diversity and depth of any partnership to accomplish the work proposed, and (c) the applicant's prior OER award performance, including timely publication of results, if applicable.

4. Project Costs (10%): This criterion evaluates the budget to determine if it is realistic and commensurate with the project needs and time-frame. For the OER review process this includes the reasonableness of project costs, relative to the scope and impact of work proposed and the available funds.

5. Outreach and education (no points): This criterion assesses whether the project provides a focused and effective education and outreach strategy regarding NOAA's mission to protect the Nation's natural resources. This criterion is not used in this competition.

Review and Selection Process: The OER Director, in consultation with the program staff, will make the decision to encourage or discourage full proposal submissions based on one or more of the evaluation criteria stated under Evaluation Criteria for Projects. A complete pre-proposal is a prerequisite for submission of a full proposal. The final decision to submit a full proposal is up to the applicant. Once a full proposal is received by NOAA, an initial administrative review is conducted to determine compliance with requirements and completeness of the application. If proposals are determined to be in compliance and complete, a proposal will be subjected to peer-review. Peer reviewers shall rate the individual proposals using the evaluation criteria and percentage weights provided above and provide summary comment. Both Federal and non-Federal experts in the field may be used in the peer-review process, which may include external mail reviews and/or a peer-review panel. Peer-review panelists will not be asked to reach consensus on individual proposals. Based on the individual external mail reviewer scores, summary comments and, as appropriate, summaries and scores by the panelists, the OER Senior Scientist, in consultation with appropriate OER staff, will make funding recommendations to the OER Director. In making the final selections, the OER Director will award in rank order unless the proposal is justified to be selected out of rank order based upon one or more of the selection factors stated in the section entitled Selection Factors for Projects and further explained in section V.C of the FFO.

Selection Factors for Projects: The Selecting Official shall award in the rank order unless the proposal is justified to be selected out of rank order based on the following factors.

1. Availability of funding.

2. Balance/distribution of funds:

a. Geographically (This includes ship availability).

b. By type of institutions.

c. By type of partners.

d. By research areas.

e. By project types.

3. Whether this project duplicates other projects funded or considered for funding by NOAA or other Federal agencies.

4. Program priorities and policy factors (as in section I.B of the FFO).

5. Applicants prior award performance.

6. Partnerships and/or participation of targeted groups.

7. Adequacy of information necessary for NOAA staff to make a NEPA determination and draft necessary documentation before recommendations for funding are made to the Grants Officer.

Intergovernmental Review: Applications under this office are subject to Executive Order 12372, “Intergovernmental Review of Federal Programs.” Applicants must contact their State's Single Point of Contact (SPOC) to find out about and comply with the State's process under EO 12372. The names and addresses of the SPOC's are listed in the Office of Management and Budget's Web site: http://www.whitehouse.gov/omb/grants/spoc.html.

Limitation of Liability: In no event will NOAA or the Department of Commerce be responsible for proposal preparation costs if these programs fail to receive funding or are cancelled because of other agency priorities. Publication of this announcement does not oblige NOAA to award any specific project or to obligate any available funds.

National Environmental Policy Act (NEPA): NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal.

The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: August 24, 2009.
Mark E. Brown,
Chief Financial Officer, Office of Oceanic and Atmospheric Research, National Oceanic and Atmospheric Administration.

[FR Doc. E9-20740 Filed 8-26-09; 8:45 am]

BILLING CODE 3510-22-P